DEPARTMENT OF THE INTERIOR

National Park Service

60-Day Notice of Intention To Request Clearance of Collection of Information; Opportunity for Public Comment

AGENCY: National Park Service, Interior.

ACTION: Notice and request for comments.

SUMMARY: Under provisions of the Paperwork Reduction Act of 1995 and 5 CFR Part 1320, Reporting and Recordkeeping Requirements, the National Park Service (NPS) invites public comments on the renewal of a current collection with a revision for Office of Management and Budget control number 1024-0252.

DATES: Public comments will be accepted on or before August 9, 2010.

ADDRESSES: Send comments to: Brandon Flint, NPS, WASO Recreation Fee Program Office, 1849 C St., NW. (2608), Washington, DC 20240; or by e-mail at brandon_flint@nps.gov., or by fax at 202/371-6623. All comments will become a matter of public record.

To Request a Draft of Proposed Collection of Information Contact: Brandon Flint, NPS, WASO Recreation Fee Program Office, 1849 C St., NW. (2608), Washington, DC 20240; phone: 202/513-7096; e-mail: brandon_flint@nps.gov, or by fax at 202/371-2401.

SUPPLEMENTARY INFORMATION: Title: The Interagency Access Pass Application Process.

Bureau Form Number: None.

OMB Number: 1024-0252.

Expiration Date: February 28, 2011.

Type of Request: Extension of a currently approved collection with a revision.

Description of Need: The currently approved information collection responds to the Federal Lands Recreation Enhancement Act (FLREA) which requires the Secretary of Agriculture and the Secretary of the Interior to make the America the Beautiful—The National Parks and Federal Recreational Lands Pass available, for free, to any United States citizen or person domiciled in the United States who has been medically determined to be permanently disabled for purposes of Section 7(20)(B)(i) of the Rehabilitation Act of 1973 (29 U.S.C. 705 (20)(B)(i)). The Act further requires that the applicant provide adequate proof of the disability and such citizenship or residency. The Act specifies that the Pass shall be valid for the lifetime of the pass holder. The America the Beautiful—The National Parks and Federal Recreational Lands Access Pass (Interagency Access Pass) was created to meet the requirements of the FLREA. An Interagency Access Pass is a free, lifetime permit that is issued without charge by the Bureau of Land Management, Bureau of Reclamation, United States Fish and Wildlife Service, United States Forest Service, and the National Park Service to citizens or persons who are domiciled (permanent residents) in the United States, regardless of age, and who have a medical determination and documentation of permanent disability. Furthermore, the Pass is to be non-transferable and entitles the permittee and any person accompanying him/her in a single, private, non-commercial vehicle, or alternatively, the permittee and 3 adults to enter with him/her where entry to the area is by any means other than private, non-commercial vehicle. The Pass must be signed by the holder.

In order to issue the Interagency Access Pass only to persons who have been medically determined to be permanently disabled, in accordance with the FLREA and in order to clarify, simplify, and to provide uniform guidance for the public on the process for obtaining the Interagency Access Pass, the Secretaries of Agriculture and of the Interior established eligibility and required documentation guidelines for issuing the Interagency Access Pass and published them within the America the Beautiful—The National Parks and Federal Recreational Lands Pass Standard Operating Procedures. The current procedures require the individual to appear in person and sign the Pass in the presence of the issuing agency officer. Acceptable documentation to verify that the individual had been medically determined to have a permanent disability has been identified and includes:

A statement signed by a licensed physician attesting that the applicant has a permanent physical, mental, or sensory impairment that substantially limits one or more major life activities, and stating the nature of the impairment; or

A document issued by a Federal agency, such as the Veteran's Administration, which attests that the applicant has been medically determined to be eligible to receive Federal benefits as a result of blindness or permanent disability. Other acceptable Federal agency documents include proof of receipt of Social Security Disability Income (SSDI) or Supplemental Security Income (SSI); or

A document issued by a State agency such as the vocational rehabilitation agency, which attests that the applicant has been medically determined to be eligible to receive vocational rehabilitation agency benefits or services as a result of medically determined blindness or permanent disability. Showing a State motor vehicle department disability sticker, license plate or hang tag is not acceptable documentation.

Information available to the general public through agency Web sites and publications will inform potential Pass applicants of the documentation requirements. However, there are instances where applicants learn about the Pass when arriving at a recreation site and do not have the required documentation available. For those instances, a fourth option is made available at recreation sites. If a person claims eligibility for the Access Pass but cannot produce any of the documentation outlined, that person must read, sign, and date the Statement of Disability Form in the presence of the officer issuing the Pass. If the applicant cannot read and/or sign, someone else may read, date, and sign the statement on his/her behalf in the applicant's presence, and in the presence of the officer issuing the Pass. The requested information and Statement of Disability have been collected and used since the creation of the Golden Access Passport in 1980 to verify that the individual had been medically determined to have a permanent disability for the issuance of the Golden Access Passport under OMB control number 0596-0173, under the authority of the Land and Water Conservation Fund Act.

This information collection is being revised in two ways. First, Interagency Access Passes will also be available through the mail by completing an application and sending in a photo copy of identification verifying U.S. residency or citizenship and documentation of disability as outlined above.

The second revision is to create a process by which a person can obtain an America the Beautiful—the National Parks and Federal Recreational Lands Senior Pass through the mail.

The FLREA requires the Secretary of Agriculture and the Secretary of the Interior to make the America the Beautiful—The National Parks and Federal Recreational Lands Pass available for $10 to any United States citizen or person domiciled in the United States 62 years of age or older. The Act further requires that the applicant provide adequate proof of age and such citizenship or residency. The Act specifies that the Pass shall be valid for the lifetime of the pass holder. The Pass is to be non-transferable and entitles the permittee and any person accompanying him/her in a single, private, non-commercial vehicle, or alternatively, the permittee and 3 adults to enter with him/her where entry to the area is by any means other than private, non-commercial vehicle. The Pass must be signed by the holder. The America the Beautiful—The National Parks and Federal Recreational Lands Senior Pass (Interagency Senior Pass) was created to meet the requirements of the FLREA.

The Interagency Senior Pass is currently only issued in person at Bureau of Land Management, Bureau of Reclamation, United States Fish and Wildlife Service, United States Forest Service, and the National Park Service recreation sites. To obtain a Pass, in accordance with the FLREA, applicants must show identification verifying age and citizenship or residency to the issuing official. Interagency Senior Passes will now also be available through the mail by completing an application and sending a photo copy of identification verifying age and U.S. residency or citizenship. Any and all information collected will be used solely to verify eligibility for a pass.

Description of respondents: United States citizens or persons domiciled in the United States who have been medically determined to be permanently disabled for the purposes of Section 7(20)(B)(i) of the Rehabilitation Act of 1973 (29 U.S.C. 705 (20)(B)(i)) and United States citizens or persons domiciled in the United States who are 62 years old or older and wish to acquire an America the Beautiful—The National Parks and Federal Recreational Lands Senior Pass through the mail.

Estimated average number of respondents: 69,730 Interagency Access Pass in person applicants, 3,670 mail applicants. 27,500 Interagency Senior Pass mail applicants.

Estimated average number of responses: 100,900 per year.

Estimated average time burden per response: 5 minutes in person, 10 minutes by mail.

Frequency of response: once per respondent.

Estimated total annual reporting burden: 11,006 hours.

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: June 3, 2010.
Stephanie Leonard,
Acting Information Collection Clearance Officer, National Park Service.

[FR Doc. 2010-13793 Filed 6-8-10; 8:45 am]

BILLING CODE 4312-52-P